DEPARTMENT OF ENERGY

Federal Energy Regulatory Commission

[Docket Nos. RM05-25-000; RM05-17-000]

Preventing Undue Discrimination and Preference in Transmission Service; Errata Notice

April 30, 2008.

On April 29, 2008, the Commission issued a Notice of Extension of Time in the above-referenced proceeding. In the second paragraph of the notice, change “February 19, 2008” to read “February 19, 2009.” The sentence should read as follows:

Public utilities are also granted an extension of time to and including November 27, 2008, to develop, through the North American Energy Standards Review Board (NAESB), business practices that support the Revisions to the NERC reliability standards MOD-001, MOD-008, MOD-028, MOD-029, and MOD-030 and an extension of time to and including February 19, 2009, to develop, through NAESB, business practices that complement the revisions to the NERC reliability standard MOD-004.

Kimberly D. Bose,
Secretary.

[FR Doc. E8-10130 Filed 5-7-08; 8:45 am]

BILLING CODE 6717-01-P